DEPARTMENT OF ENERGY

Federal Energy Regulatory Commission

[Project No. 14975-000]

Lock+TM Hydro Friends Fund XXII, LLC; Notice of Surrender of Preliminary Permit

Take notice that Lock+TM Hydro Friends Fund XXII, LLC, permittee for the proposed Little Pine Creek Dam Hydropower Project, has requested that its preliminary permit be terminated. The permit was issued on December 6, 2019 and would have expired on November 30, 2023.¹ The project would have been located at the Pennsylvania Department of Conservation and Natural Resources' Little Pine Creek Dam on Little Pine Creek in Lycoming County, Pennsylvania.

¹ 169 FERC ¶ 62,138 (2019).

The preliminary permit for Project No. 14975 will remain in effect until the close of business, June 2, 2022. But, if the Commission is closed on this day, then the permit remains in effect until the close of business on the next day in which the Commission is open.² New applications for this site may not be submitted until after the permit surrender is effective.

² 18 CFR 385.2007(a)(2) (2021).

Dated: May 3, 2022.
Kimberly D. Bose,
Secretary.

[FR Doc. 2022-09900 Filed 5-6-22; 8:45 am]

BILLING CODE 6717-01-P